DEPARTMENT OF JUSTICE

[AAG/A Order No. 008-2004]

Privacy Act of 1974; System of Records

Pursuant to the provisions of the Privacy Act of 1974 (5 U.S.C. 552a), notice is given that the Department of Justice proposes to modify a Department-wide system of records entitled “Accounting Systems for the Department of Justice (DOJ), DOJ-001.” This system of records was last published on May 28, 1999 at 64 FR 29069. Modifications include: a new method of storage and safeguards; updated and simplified routine uses; removal of the Immigration and Naturalization Service from the components covered, as INS is no longer part of DOJ; and addition of the Bureau of Alcohol, Tobacco, Firearms and Explosives, which joined the DOJ on January 24, 2003.

In accordance with 5 U.S.C. 552a(e)(4) and (11), the public is given a 30-day period in which to comment on this notice; and the Office of Management and Budget (OMB), which has oversight responsibility under the Act, requires a 40-day period in which to conclude its review of the system. Therefore, please submit any comments by July 13, 2004. The public, OMB, and the Congress are invited to submit any comments to Mary E. Cahill, Management and Planning Staff, Justice Management Division, Department of Justice, Washington, DC 20530 (Room 1400, National Place Building).

In accordance with 5 U.S.C. 552a(r), the Department has provided a report to OMB and the Congress.

Dated: May 25, 2004.
Paul R. Corts,
Assistant Attorney General for Administration.

DEPARTMENT OF JUSTICE—001

System Name:

Accounting Systems for the Department of Justice (DOJ).

Security Classification:

Not classified.

System Locations:

Justice Management Division, 950 Pennsylvania Ave., NW., Washington, DC 20530 [Internet Web site: www.usdoj.gov]; Central Offices of the Bureau of Prisons (BOP) at 320 1st St., NW., Washington, DC 20534 and Federal Prison Industries (FPI) at 400 1st St., NW., Washington, DC 20534 [Internet Web site: www.UNICOR.Gov]; and at any BOP/FPI Regional Offices and/or any of the BOP/FPI facilities at addresses provided in 28 CFR part 503 [and at the BOP Internet Web site: www.bop.gov]; Headquarters of the Drug Enforcement Administration (DEA), Office of Finance, 700 Army Navy Drive, Arlington, VA., 22202; and at DEA field offices listed as detailed in DEA-999 [and at the DEA Internet Web site: www.dea.gov]; Federal Bureau of Investigation (FBI) Headquarters at 935 Pennsylvania Ave., NW., Washington, DC 20535; and at FBI field offices as detailed in Justice/FBI-999 [and at the FBI Internet Web site: www.fbi.gov]; Office of Justice Programs (OJP), 810 7th Street, NW., Washington, DC 20531 [Internet Web site: www.ojp.gov]; U.S. Marshals Service (USMS), CS-3, 11th Floor, Washington, DC 20530-1000; and at 94 district offices of the USMS [listed at the USMS Internet Web site: www.usms.gov]; Bureau of Alcohol, Tobacco, Firearms and Explosives (ATF), 650 Massachusetts Ave., NW., Washington, DC 20226 and at field offices [listed at the ATF Internet Web site: www.atf.gov].

Categories of Individuals Covered by the System:

Individuals/persons (including DOJ employees; and including current and former inmates under the custody of the Attorney General) who are in a relationship, or who seek a relationship, with the DOJ or component thereof—a relationship that may give rise to an accounts receivable, an accounts payable, or to similar accounts such as those resulting from a grantee/grantor relationship. Included may be:

(a) Those for whom vouchers (except payroll vouchers for DOJ employees) are submitted to DOJ requesting payment for goods or services rendered including vendors, contractors, experts, witnesses, court reporters, travelers, and employees;

(b) Those to whom the DOJ is indebted or who may have a claim against the DOJ, including those named in (a) above;

(c) Those who are indebted to DOJ, e.g., those receiving goods, services, or benefits from DOJ; those who are liable for damage to Government property; those indebted for travel/transfer advances and overpayments; and those owing administrative fees and/or assessments; and

(d) Those who apply for DOJ benefits, funds, and grants.

Categories of Records in the System:

All documents used to reserve, obligate, process, and effect collection or payment of funds, e.g., vouchers (excluding payroll vouchers), invoices; purchase orders; travel advances, travel/transfer vouchers and other such documentation reflecting information about payments due to or made to; claims made by, or debts owed by the individuals covered by this system, including fees, fines, penalties, overpayments, and/or other assessments, and to comply with reporting regulations of the Internal Revenue Service of the Department of Treasury.

Authority for Maintenance of the System:

31 U.S.C. 3512; 44 U.S.C. 3101.

Purpose of the System:

This system of records is used by DOJ officials to maintain information adequate to ensure the financial accountability of the individuals covered by this system; provide an accounting and reporting of DOJ financial activities; meet both internal and external audit and reporting requirements; maintain an accounts receivable and accounts payable; and otherwise administer these and any other related financial and accounting responsibilities.

Routine Uses of Records Maintained in the System, Including Categories of Users and the Purposes of Such Uses:

DOJ may disclose relevant information as follows:

(1) To the Secretary of the Treasury to effect disbursement of authorized payments.

(2) To any Federal agency or to any individual or organization for the purpose of performing audit or oversight operations of the DOJ and to meet related reporting requirements.

(3) To appropriate officials and employees of a Federal agency or entity which requires information relevant to a decision concerning the hiring, appointment, or retention of an employee; the issuance, renewal, suspension, or revocation of a security clearance; the execution of a security or suitability investigation; the letting of a contract, or the issuance of a grant or benefit.

(4) To Federal, State, local, tribal, foreign, or international licensing agencies or associations which require information concerning the suitability or eligibility of an individual for a license or permit.

(5) Where a record, either on its face or in conjunction with other information, indicates a violation or potential violation of law—criminal, civil, or regulatory in nature—the relevant records may be referred to the appropriate Federal, State, local, foreign, or tribal, law enforcement authority or other appropriate agency charged with the responsibility of investigating or prosecuting such a violation or enforcing or implementing such law.

(6) To an actual or potential party to litigation or the party's authorized representative for the purpose of negotiation or discussion on such matters as settlement, plea bargaining, or in informal discovery proceedings.

(7) In an appropriate proceeding before a court, or administrative or adjudicative body, when the Department of Justice determines that the records are arguably relevant to the proceeding; or in an appropriate proceeding before an administrative or adjudicative body when the adjudicator holds the records to be relevant to the proceeding.

(8) To the news media and the public pursuant to 28 CFR 50.2, unless it is determined that release of the specific information in the context of a particular case would constitute an unwarranted invasion of personal privacy.

(9) To a Member of Congress or staff acting upon the Member's behalf when the Member or staff requests the information on behalf of and at the request of the individual who is the subject of the record.

(10) To the National Archives and Records Administration in records management inspections conducted under the authority of 44 U.S.C. 2904 and 2906.

(11) To any Federal, State, or local agency, or tribal authority, which has a financial or other legitimate need for the information to perform official duties; or, similarly, to obtain information which would enable the Department to perform its official duties. Examples include: to permit such agency to perform accounting functions or to report to the Department of the Treasury regarding the status of a Federal employee/contractor debt owed to such Federal, State, or local agency, or tribal authority; to report on the status of Department efforts to collect such debt; to obtain information necessary to identify a Federal employee/contractor indebted to such agency; to provide information regarding the location of such debtor; or to obtain information which would permit the Department to confirm a debt and/or offset a payment otherwise due a Federal employee/contractor after any appropriate due process steps have been taken.

(12) To any Federal, State, local, or foreign agency, or tribal authority, or to any individual or organization, if there is reason to believe that such agency, authority, individual, or organization possesses information relating to a debt, the identity or location of the debtor, the debtor's ability to pay; or relating to any other matter which is relevant and necessary to the settlement, effective litigation and enforced collection of a debt; or relating to the civil action, trial or hearing concerning the collection of such debt; and if the disclosure is reasonably necessary to elicit such information and/or obtain cooperation of a witness or agency;

(13) To the U.S. Department of the Treasury, the U.S. Department of Defense, the U.S. Postal Service, or other disbursing agencies, in order to effect administrative, salary, or tax refund offset against Federal payments to collect a delinquent claim or debt owed the United States, or a State; to satisfy a delinquent child support debt; or to effect other actions required or permitted by law to collect such debt.

(14) To the U.S. Department of the Treasury any information regarding adjustments to delinquent debts, such as voluntary payments which decrease the debt, changes in the debt status resulting from bankruptcy, any increase in the debt, or any decrease in the debt resulting from changes in agency statutory requirements.

(15) To employers to effect salary or administrative offset to satisfy a debt owed the United States by the debtor or, when other collection efforts have failed, to the Internal Revenue Service (IRS) to effect an offset against Federal income tax refund due.

(16) To employers to institute administrative wage garnishments to recover debts owed the United States.

(17) To debt collection centers designated by the U.S. Department of the Treasury (or to a person with whom the DOJ has entered into a contract) to locate or recover assets of the DOJ; or for sale of a debt; or to otherwise recover indebtedness owed.

(18) In accordance with regulations issued by the Secretary of the Treasury to implement the Debt Collection Improvement Act of 1996, to publish or otherwise publicly disseminate information regarding the identity of the person and the existence of a non-tax debt in order to direct actions under the law toward delinquent debtors that have assets or income sufficient to pay their delinquent non-tax debts, but only upon taking reasonable steps to ensure the accuracy of the identity of a debtor; upon ensuring that such debtor has had an opportunity to verify, contest, and compromise a non-tax debt; and with the review of the Secretary of Treasury.

(19) To the IRS for reporting a discharged debt as potential taxable income.

(20) To the IRS to obtain taxpayer mailing addresses for debt collection use. These taxpayer mailing addresses may be disclosed

(a) To private collection contractors to locate a taxpayer and to collect or compromise a claim against, or debt of, the taxpayer, and

(b) To consumer or commercial reporting agencies to obtain a credit report.

(21) To the Department of Health and Human Services, and the Department of Labor, for computer matching in order to obtain names (including names of employees), name controls, names of employers, Taxpayer Identification Numbers, addresses (including addresses of employers) and dates of birth for the purpose of verifying identities in order to pursue the collection of debts.

(22) To other Federal or State agencies as required by law.

(23) To a consumer or commercial reporting agency in accordance with the Debt Collection Improvement Act of 1996.

(24) To contractors, grantees, experts, consultants, students, and others performing or working on a contract, service, grant, cooperative agreement, or other assignment for the Federal Government, when necessary to accomplish an agency function related to this system of records.

(25) To a person or to an entity (e.g., the U. S. Department of the Treasury and/or a consumer or commercial reporting agency), Taxpayer Identification Numbers (TIN's), to report on delinquent debt and/or to pursue the collection of debt, or where otherwise necessary or required, e.g., U. S. Department of the Treasury for disbursement of payments authorized—provided such disclosure is not otherwise prohibited by Section 6103 of the Internal Revenue Code, or other law.

(26) The Department of Justice may disclose relevant and necessary information to a former employee of the Department for purposes of: Responding to an official inquiry by a Federal, State, or local government entity or professional licensing authority, in accordance with applicable Department regulations; or facilitating communications with a former employee that may be necessary for personnel-related or other official purposes where the Department requires information and/or consultation assistance from the former employee regarding a matter within that person's former area of responsibility.

Disclosure to Consumer Reporting Agencies:

Only as noted in Routine Use 23 above.

Policies and Practices for Storing, Retrieving, Accessing, Retaining, and Disposing of Records in the System:

Storage:

Magnetic disks, magnetic tapes, microfiche, microfilm, file folders, and digitized images, or any other media.

Retrievability:

Document number, name, taxpayer identification number, digital identifiers, batch, or other identifiers.

Safeguards:

Access is limited to DOJ personnel with a need to know. Access to computerized information is generally controlled by passwords, or similar safeguard, which are issued only to authorized personnel. Records are retained in the form of digitized images on a server to which limited workstations have access. Access to the server from these workstations is controlled by passwords. Server and workstations are located in controlled-access buildings. Paper records, and some computerized media, are kept in locked files of locked offices during off duty hours. In addition, offices are located in controlled-access buildings.

Retention and Disposal:

Records are retained and disposed of in accordance with General Records Schedules 6 and 7.

System Manager(s) and Addresses:

Director, Finance Staff, Justice Management Division (JMD), U.S. Department of Justice, 950 Pennsylvania Ave., NW., Washington, DC 20530.

Director, Federal Bureau of Prisons (BOP), 320 First St., NW., Washington, DC 20534. [The Director, BOP, is also system manager for Federal Prison Industries (FPI).]

Chief Financial Officer, Financial Management Division, Drug Enforcement Administration (DEA), 700 Army Navy Drive, Arlington, VA 22202.

Director, Federal Bureau of Investigation (FBI), 935 Pennsylvania Ave., NW., Washington, DC 20535.

Director, Accounting Division, Office of Justice Programs (OJP), 810 7th Street, NW., Washington, DC 20531.

Chief, Finance Staff, Management and Budget Division, U.S. Marshals Service, CS-3, 11th Floor, Washington, DC 20530-1000.

Office of Management/Chief Financial Officer, Bureau of Alcohol, Tobacco, Firearms and Explosives, 650 Massachusetts Ave., NW., Washington, DC 20226.

Notification Procedures:

Same as record access procedures.

Record Access Procedures:

Request for access to records in this system must be in writing and should be addressed as follows:

JMD: For records of the Offices, Boards and Divisions, address requests to the system manager named above for JMD.

OJP: Address request to the system manager named above.

BOP: Address requests to the Assistant Director, Administration Division, 320 First Street, NW., Washington, DC 20534.

FPI: Address requests to Assistant Director, Federal Prison Industries, 400 First Street, NW., Washington, DC 20534.

USMS: Address requests to the system manager named above, attention: FOIA/PA Officer.

DEA: Address requests to the system manager named above.

FBI: Address requests to the system manager named above.

ATF: Address request to Disclosure Division, Privacy Act Request, Bureau of Alcohol, Tobacco, Firearms and Explosives, 650 Massachusetts Avenue, NW., Washington, DC 20226.

The envelope and letter should be clearly marked “Privacy Act Access Request.” The request should include a general description of the records sought and must include the requester's full name, current address, and date and place of birth. The request must be signed and dated and either notarized or submitted under penalty of perjury. If known, the requester should also identify the date or year in which a debt was incurred, e.g., date of invoice or purchase order.

Contesting Record Procedures:

Individuals desiring to contest or amend information maintained in the system should direct their request according to the Record Access Procedures listed above, stating clearly and concisely what information is being contested, the reasons for contesting it, and the proposed amendment to the information sought. Some information is not subject to amendment, such as tax return information. A determination whether a record may be amended will be made at the time a request is received.

Record Source Categories:

Operating personnel, individuals covered by the system, and Federal agencies.

Exemptions Claimed for the System:

None.

[FR Doc. 04-12578 Filed 6-2-04; 8:45 am]

BILLING CODE 4410-FB-P